DEPARTMENT OF COMMERCE

International Trade Administration

[A-570-855]

Certain Non-Frozen Apple Juice Concentrate From the People's Republic of China: Final Results of the New Shipper Review

AGENCY: Import Administration, International Trade Administration, Department of Commerce.

SUMMARY: The Department of Commerce (“Department”) is conducting a new shipper review (“NSR”) of the antidumping duty order covering certain non-frozen apple juice concentrate from the People's Republic of China. See Notice of Amended Final Determination of Sales at Less Than Fair Value and Antidumping Duty Order: Certain Non-Frozen Apple Juice Concentrate From the People's Republic of China, 65 FR 35606 (June 5, 2000). This is a new shipper review of Lingbao Xinyuan Fruit Industry Co., Ltd. (“LXFI”). Based upon our analysis of the comments and information received, we made changes to the dumping margin calculation for the final results. The final dumping margin is listed below in the section entitled “Final Results of the Review.”

DATES: Effective Date: December 28, 2010.

FOR FURTHER INFORMATION CONTACT: Alexis Polovina, AD/CVD Operations, Office 9, Import Administration, International Trade Administration, U.S. Department of Commerce, 14th Street and Constitution Avenue, NW., Washington DC 20230; telephone: (202) 482-3927.

SUPPLEMENTARY INFORMATION:

Case History

On August 5, 2010, the Department issued the preliminary results of the NSR for the period June 1, 2009, through January 20, 2010. See Certain Non-Frozen Apple Juice Concentrate from the People's Republic of China: Notice of Preliminary Results of the New Shipper Review, 75 FR 47270 (August 5, 2010) (“Preliminary Results”).

On September 7, 2010, LXFI submitted its case brief. No other party submitted case briefs.

On October 4, 2010, the Department extended the deadline for the final results in the instant review by 60 days. See Non-Frozen Apple Juice Concentrate from the People's Republic of China: Extension of Time Limit for the Final Results of the New Shipper Antidumping Duty Review, 75 FR 61127 (October 4, 2010).

On October 19, 2010, the Department, as a result of the recent decision issued by the Court of Appeals for the Federal Circuit's ruling in Dorbest Limited et al. v. United States, 604 F.3d 1363 (Fed. Cir. 2010), placed a memorandum on the record regarding its reconsideration of its valuation of the labor wage rate for this review. The Department gave interested parties until November 8, 2010 to comment on the proposed labor wage rate methodology. See Memorandum to the File, through James C. Doyle, Director, Alex Villanueva, Program Manager, from Alexis Polovina, Case Analyst, regarding New Shipper Review of the Antidumping Duty Order on Non-Frozen Apple Juice Concentrate from the People's Republic of China: Industry-Specific Wage Rate Selection (October 19, 2010).

On November 5, 2010, LXFI submitted comments on the wage rate methodology. No other party submitted comments.

Scope of the Order

The product covered by the order is certain non-frozen apple juice concentrate. Apple juice concentrate is defined as all non-frozen concentrated apple juice with a brix scale of 40 or greater, whether or not containing added sugar or other sweetening matter, and whether or not fortified with vitamins or minerals. Excluded from the scope of the order are: frozen concentrated apple juice; non-frozen concentrated apple juice that has been fermented; and non-frozen concentrated apple juice to which spirits have been added.

The merchandise subject to the order is classified in the Harmonized Tariff Schedule of the United States (“HTSUS”) at subheadings 2106.90.52.00 and 2009.70.00.20 before January 1, 2002, and 2009.79.00.20 after January 1, 2002. Although the HTSUS subheadings are provided for convenience and customs purposes, the written description of the scope of the order is dispositive.

Analysis of Comments Received

All issues raised in the case brief by LXFI to this proceeding and to which we have responded are listed in the Appendix to this notice and addressed in the Issues and Decision Memorandum (“Final I&D Memo”), which is hereby adopted by this notice. Parties can find a complete discussion of the issues raised in this NSR and the corresponding recommendations in this public memorandum, which is on file in the Central Records Unit, room 7046, of the main Department of Commerce building. In addition, a copy of the Final I&D Memo can be accessed directly on our Web site at http://ia.ita.doc.gov/. The paper copy and electronic version of the Final I&D Memo are identical in content.

Changes Since The Preliminary Results

Based on a review of the record as well as comments received from parties regarding our Preliminary Results, we have made revisions to the margin calculation for LXFI in the final results. For all changes to the calculations, see the Final I&D Memo and company specific analysis memoranda.

Final Results of the Review

The weighted-average dumping margins for the period of review are as follows:

Certain Non-Frozen Apple juice from the PRC
Manufacturer/Exporter | Weighted-Average Margin (Percent)
LXFI | 0.00.

Assessment

The Department will determine, and U.S. Customs and Border Protection (“CBP”) shall assess, antidumping duties on all appropriate entries, pursuant to 19 CFR 351.212(b). We have calculated importer-specific duty assessment rates on a weighted-average basis. We will instruct CBP to assess antidumping duties on all appropriate entries covered by this review if any importer-specific assessment rate calculated in the final results of this NSR is above de minimis. The Department intends to issue appropriate assessment instructions directly to CBP 15 days after publication of the final results of this NSR.

Cash Deposit Requirements

The following cash deposit requirements will be effective upon publication of the final results of this NSR for all shipments of subject merchandise by LXFI, entered, or withdrawn from warehouse, for consumption on or after the publication date, as provided by section 751(a)(2)(C) of the Tariff Act of 1930, as amended (“Act”): (1) For subject merchandise produced and exported by LXFI, the cash deposit rate will be the rate established in the final results of this NSR; (2) for subject merchandise exported by LXFI but not manufactured by LXFI, the cash deposit rate will continue to be the PRC-wide rate (i.e., 51.74 percent); and (3) for subject merchandise manufactured by LXFI, but exported by any other party, the cash deposit rate will be the rate applicable to the exporter. These cash deposit requirements will remain in effect until further notice.

Reimbursement of Duties

This notice also serves as a final reminder to importers of their responsibility under 19 CFR 351.402(f) to file a certificate regarding the reimbursement of antidumping duties prior to liquidation of the relevant entries during this period of review. Failure to comply with this requirement could result in the Department's presumption that reimbursement of antidumping duties has occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results in accordance with sections 751(a)(2)(B) and 777(i) of the Act, and 19 CFR 351.214(h) and 351.221(b)(5).

Dated: December 17, 2010.
Ronald K. Lorentzen,
Deputy Assistant Secretary for Import Administration.

Appendix I—Decision Memorandum

Comment 1: Surrogate Values

A. Water

B. Containerization

C. Labor

Comment 2: By-Product Offset

[FR Doc. 2010-32675 Filed 12-27-10; 8:45 am]

BILLING CODE 3510-DS-P